FEDERAL COMMUNICATIONS COMMISSION

47 CFR Part 73

[DA 02-242, MM Docket No. 00-117 , RM-9810]

Digital Television Broadcast Service; Salem, OR

AGENCY: Federal Communications Commission.

ACTION: Final rule.

SUMMARY: The Commission, at the request of Paxson Salem License, Inc., licensee of station KPXG(TV), substitutes DTV channel 4 for DTV channel 20 at Salem, Oregon. See 65 FR 41620, July 6, 2000. DTV channel 4 can be allotted to Salem in compliance with the principle community coverage requirements of section 73.625(a) at reference coordinates 45-30-58 N. 122-43-59 W. with a power of 17, HAAT of 455 meters and with a DTV service population of 2040 thousand. Since the community of Salem is located within 400 kilometers of the U.S.-Canadian border, concurrence by the Canadian government has been obtained for this allotment. With this action, this proceeding is terminated.

DATES: Effective March 25, 2002.

FOR FURTHER INFORMATION CONTACT: Pam Blumenthal, Mass Media Bureau, (202) 418-1600.

SUPPLEMENTARY INFORMATION: This is a synopsis of the Commission's Report and Order, MM Docket No. 00-117, adopted February 1, 2002, and released February 6, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Oregon, is amended by removing DTV channel 20 and adding DTV channel 4 at Salem.

Federal Communications Commission.
Barbara A. Kreisman,
Chief, Video Services Division, Mass Media Bureau.

[FR Doc. 02-3573 Filed 2-13-02; 8:45 am]

BILLING CODE 6712-01-P